DEPARTMENT OF THE TREASURY

Internal Revenue Service

26 CFR Part 1

Determination of Interest Expense Deduction of Foreign Corporations

CFR Correction

In Title 26 of the Code of Federal Regulations, Part 1 (§§ 1.851 to 1.907), revised as of April 1, 2008, on page 436, in § 1.882-5, reinstate paragraph (d)(2)(ii)(B) to read as follows:

§ 1.882-5 Determination of interest deduction.

* * * * *

(d) * * *

(2) * * *

(ii) * * *

(B) Identified liabilities not properly reflected. A liability is not properly reflected on the books of the U.S. trade or business merely because a foreign corporation identifies the liability pursuant to § 1.884-4(b)(1)(ii) and (b)(3).

* * * * *

[FR Doc. E9-6944 Filed 3-26-09; 8:45 am]

BILLING CODE 1505-01-D